DEPARTMENT OF COMMERCE

Foreign-Trade Zones Board

[B-18-2024]

Foreign-Trade Zone (FTZ) 90; Authorization of Production Activity; PPC Broadband, Inc.; (Fiber Optic Conduit); East Syracuse, New York

On April 26, 2024, PPC Broadband, Inc. submitted a notification of proposed production activity to the FTZ Board for its facility within Subzone 90C, in East Syracuse, New York.

The notification was processed in accordance with the regulations of the FTZ Board (15 CFR part 400), including notice in the Federal Register inviting public comment (89 FR 37174, May 6, 2024). On August 26, 2024, the applicant was notified of the FTZ Board's decision that no further review of the proposed activity is warranted at this time. The FTZ Board authorized the production activity described in the notification, subject to the FTZ Act and the Board's regulations, including section 400.14. Polyester pull cord must be admitted in privileged foreign status (19 CFR 146.41).

Dated: August 26, 2024.
Elizabeth Whiteman,
Executive Secretary.

[FR Doc. 2024-19429 Filed 8-28-24; 8:45 am]

BILLING CODE 3510-DS-P